NATIONAL SCIENCE FOUNDATION

Sunshine Act Meetings; National Science Board

The National Science Board's Committee on External Engagement, pursuant to NSF regulations (45 CFR part 614), the National Science Foundation Act, as amended (42 U.S.C. 1862n-5), and the Government in the Sunshine Act (5 U.S.C. 552b), hereby gives notice of the scheduling of a teleconference for the transaction of National Science Board business, as follows:

TIME AND DATE: Thursday, April 30, 2020, at 1:00-2:00 p.m. EDT.

PLACE: This meeting will be held by teleconference. An audio link will be available for the public upon request at nationalsciencebrd@nsf.gov. Email requests must be made one day in advance.

STATUS: Open.

MATTERS TO BE CONSIDERED: Committee chair's remarks; prepare the committee's agenda for the May NSB meetings, with particular focus on engagement ideas/plans for NSB's Vision report.

CONTACT PERSON FOR MORE INFORMATION: Point of contact for this meeting is: Chris Blair, cblair@nsf.gov, 703-292-7000. To listen to this teleconference, members of the public must send an email to nationalsciencebrd@nsf.gov at least 24 hours prior to the teleconference. The National Science Board Office will send requesters a link to the audio. Meeting information and updates may be found at http://www.nsf.gov/nsb/notices.jsp#sunshine. Please refer to the National Science Board website at www.nsf.gov/nsb for general information.

Chris Blair,
Executive Assistant to the National Science Board Office.

[FR Doc. 2020-08547 Filed 4-17-20; 4:15 pm]

BILLING CODE 7555-01-P